DEPARTMENT OF HOMELAND SECURITY

Coast Guard

[Docket No. USCG-2013-0437]

Recreational Boating—Estimating Benefits of Reducing Injuries

AGENCY: Coast Guard, DHS.

ACTION: Notice of availability and request for comments.

SUMMARY: The Coast Guard announces the availability of a report produced for the Coast Guard entitled “Estimating Benefits of Reducing Recreational Boating Injuries: Alternative Sources of Information on Fatalities, Injuries, and Property Damages,” dated September 12, 2011. The Coast Guard requests your comments on the report.

DATES: Comments and related material must either be submitted to our online docket via http://www.regulations.gov on or before August 27, 2013 or reach the Docket Management Facility by that date.

ADDRESSES: You may submit comments identified by docket number USCG-2013-0437 using any one of the following methods:

(1) Federal eRulemaking Portal: http://www.regulations.gov.

(2) Fax: 202-493-2251.

(3) Mail: Docket Management Facility (M-30), U.S. Department of Transportation, West Building Ground Floor, Room W12-140, 1200 New Jersey Avenue SE., Washington, DC 20590-0001.

(4) Hand delivery: Same as mail address above, between 9 a.m. and 5 p.m., Monday through Friday, except Federal holidays. The telephone number is 202-366-9329.

To avoid duplication, please use only one of these four methods. See the “Public Participation and Request for Comments” portion of the SUPPLEMENTARY INFORMATION section below for instructions on submitting comments.

FOR FURTHER INFORMATION CONTACT: If you have questions on this notice, call or email Mr. Jeff Ludwig, Coast Guard; telephone 202-372-1061, email Jeffrey.A.Ludwig@uscg.mil. If you have questions on viewing or submitting material to the docket, call Barbara Hairston, Program Manager, Docket Operations, telephone 202-366-9826.

SUPPLEMENTARY INFORMATION:

Public Participation and Request for Comments

We encourage you to submit comments and related material on the report entitled “Estimating Benefits of Reducing Recreational Boating Injuries: Alternative Sources of Information on Fatalities, Injuries, and Property Damages,” dated September 12, 2011. All comments received will be posted, without change, to http://www.regulations.gov and will include any personal information you have provided.

Submitting comments: If you submit a comment, please include the docket number for this notice (USCG-2013-0437) and provide a reason for each suggestion or recommendation. You may submit your comments and material online, or by fax, mail or hand delivery, but please use only one of these means. We recommend that you include your name and a mailing address, an email address, or a telephone number in the body of your document so that we can contact you if we have questions regarding your submission.

To submit your comment online, go to http://www.regulations.gov, click on the “submit a comment” box, which will then become highlighted in blue. In the “Document Type” drop down menu select “Notices” and insert “USCG-2013-0437” in the “Keyword” box. Click “Search” then click on the balloon shape in the “Actions” column. If you submit your comments by mail or hand delivery, submit them in an unbound format, no larger than 8½; by 11 inches, suitable for copying and electronic filing. If you submit them by mail and would like to know that they reached the Facility, please enclose a stamped, self-addressed postcard or envelope. We will consider all comments and material received during the comment period.

Viewing the comments and documents:

To view the comments and the IEc Final Report entitled, “Estimating Benefits of Reducing Recreational Boating Injuries: Alternative Sources of Information on Fatalities, Injuries, and Property Damages,” dated September 12, 2011, as well as documents mentioned in this preamble as being available in the docket, go to http://www.regulations.gov and insert “USCG-2013-0437” in the “Search” Box. Click “Search.” Click the “Open Docket Folder” in the “Actions” column. If you do not have access to the internet, you may view the docket online by visiting the Docket Management Facility in Room W12-140 on the ground floor of the Department of Transportation West Building, 1200 New Jersey Avenue SE., Washington, DC 20590, between 9 a.m. and 5 p.m., Monday through Friday, except Federal holidays. We have an agreement with the Department of Transportation to use the Docket Management Facility.

Privacy Act:

Anyone can search the electronic form of comments received into any of our dockets by the name of the individual submitting the comment (or signing the comment, if submitted on behalf of an association, business, labor union, etc.). You may review a Privacy Act notice regarding our public dockets in the January 17, 2008, issue of the Federal Register (73 FR 3316).

Background and Purpose

We announce the availability of a report produced for the Coast Guard, entitled “Estimating Benefits of Reducing Recreational Boating Injuries: Alternative Sources of Information on Fatalities, Injuries, and Property Damages,” and dated September 12, 2011. The report examines data on the consequences of recreational boating accidents to help the Coast Guard determine how our analyses of accident data can be enhanced to improve how we can quantify the benefits of Coast Guard regulations, policies, and programs.

The report reviews available recreational boating accident data (fatalities, nonfatal injuries and property damage) reported in Coast Guard's Boating Accident Report Database (BARD) and compares this information to national databases. The report suggests that available BARD data on fatalities and the value of reductions in fatality risks are reasonably accurate and appropriate for use in benefit-cost analysis. For nonfatal injuries, the available BARD data is more uncertain. The report notes that nonfatal injuries in BARD are underreported, with the degree of underreporting increasing as the severity of the injury decreases. In addition, the report finds that the approaches used for valuation do not directly address boating-related injuries and rely on rough proxies for willingness to pay for risk reductions. Regarding property damages, the report concludes that more research is needed to determine the accuracy of the available estimates.

The Coast Guard seeks comments on the content of the report generally, as well as any additional data or analysis that could further support the report's conclusions, could provide data to the contrary, or that may fill in any gaps identified by the report. Additionally, the Coast Guard seeks comments on, as well as any additional data or analysis, helping to identify property damages related to recreational boating activities.

This notice is issued under authority of 5 U.S.C. 552 (a).

Dated: May 30, 2013.
J.G. Lantz,
Director of Commercial Regulations and Standards, U.S. Coast Guard.

[FR Doc. 2013-15500 Filed 6-27-13; 8:45 am]

BILLING CODE 9110-04-P